FEDERAL MARITIME COMMISSION

Notice of Agreements Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201103-014.

Agreement Name: Memorandum Agreement of December 14, 1983 Concerning Assessments to Pay ILWU-PMA Employee Benefit Costs.

Parties: International Longshoremen's and Warehousemen's Union and Pacific Maritime Association.

Filing Party: Wayne Rohde; Cozen O'Connor.

Synopsis: The amendment revises the agreement to include a Passenger Sector Supplemental Assessment, effective January 1, 2020, to replace the lost assessment revenue resulting from the addition of labor to accommodate passenger cruise line operations, and also revises various figures set forth in Appendix 1.

Proposed Effective Date: 10/24/2019.

Location: https://www2.fmc.gov/FMC.Agreements.Web/Public/AgreementHistory/10164.

Dated: October 31, 2019.
Rachel Dickon,
Secretary.

[FR Doc. 2019-24115 Filed 11-4-19; 8:45 am]

BILLING CODE 6731-AA-P